DEPARTMENT OF LABOR

Occupational Safety and Health Administration

[Docket No. ICR-1218-0232(2004)]

Crawler, Locomotive, and Truck Cranes; Extension of the Office of Management and Budget's (OMB) Approval of Information-Collection (Paperwork) Requirements

AGENCY: Occupational Safety and Health Administration (OSHA), Labor.

ACTION: Request for comment.

SUMMARY: OSHA solicits comments concerning its request for an extension of the information collection requirements contained in its Crawler, Locomotive, and Truck Crane in Construction Standard (29 CFR 1926.550(b)(2)); The purpose of the provision is to prevent employees from using unsafe cranes, thereby, reducing their risk of death or serious injury caused by a crane failure.

DATES: Comments must be submitted by the following dates:

Hard Copy: Your comments must be submitted (postmarked or received) by September 17, 2004.

Facsimile and electronic: Your comments must be submitted (postmarked or received) September 17, 2004.

ADDRESSES:

I. Submission of Comments

Regular mail, express delivery, hand-delivery, and messenger service: Submit your comments and attachments to the OSHA Docket Office, Docket No. ICR-1218-0232(2004), Room N-2625, OSHA, U.S. Department of Labor, 200 Constitution Avenue, NW., Washington, DC 20210. OSHA Docket Office and Department of Labor hours of operation are 8:15 a.m. to 4:45 p.m., e.s.t.

Facsimile: If your comments, including any attachments, are 10 pages or fewer, you may fax them to the OSHA Docket Office at (202) 693-1648. You must include the docket number of this document, Docket No. ICR 1218-0232(2004), in your comments.

Electronic: You may submit comments, but not attachments, through the internet at http://ecomments.osha.gov/.

II. Obtaining Copies of the Supporting Statement for the Information Collection Request

The Supporting Statement for the Information Collection Request is available for downloading from OSHA's Web site at http://www.osha.gov. The supporting statement is available for inspection and copying in the OSHA Docket Office, at the address listed above. A printed copy of the supporting statement can be obtained by contacting Todd Owen at (202) 693-2222.

FOR FURTHER INFORMATION CONTACT: Noah Connell, Directorate of Construction, OSHA, U.S. Department of Labor, Room N-3467, 200 Constitution Avenue, NW., Washington, DC 20210; telephone: (202) 693-2345.

SUPPLEMENTARY INFORMATION:

I. Submission of Comments in This Notice and Internet Access To Comments and Submissions

You may submit comments in response to this document by (1) hard copy, (2) fax transmission (facsimile), or (3) electronically through the OSHA Web page. Please note that you cannot attach materials such as studies or journal articles to electronic comments. If you have additional materials, you must submit three copies of them to the OSHA Docket Office at the address above. The additional materials must clearly identify your electronic comments by name, date, subject and docket number so that we can attach them to your comments. Because of security-related problems there may be a significant delay in the receipt of comments by regular mail. Please contact the OSHA Docket Office at (202) 693-2350 for information about security procedures concerning the delivery of material by express delivery, hand delivery and messenger service.

II. Background

The Department of Labor, as part of its containing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are clearly understood, and OSHA's estimate of the information-collection burden is correct.

The Crawler, Locomotive, and Truck Crane Standard (i.e., “the Standard”) specifies the following paperwork requirements.

Paragraph (b)(2) of § 29 CFR 1926.55 requires the employer to prepare and maintain a certification record which includes the date on which critical crane items were inspected, the signature of the person who performed the inspection, and the serial number or other identifier of the crane inspected as specified in ANSI B30.5-1968, Safety Code of Crawler, Locomotive and Truck Cranes. The most recent certification record shall be maintained on file until a new one is prepared.

Establishing and maintaining written records of the monthly inspections informs employers and employees regarding serious, life threatening equipment failure.

III. Special Issues for Comment

OSHA has a particular interest in comments on the following issues:

• Whether the proposed information-collected requirements are necessary for the proper performance of the Agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information-collection and transmission techniques.

IV. Proposed Actions

OSHA is proposing to extend OMB's previous approval of the recordkeeping (paperwork) requirement specified in paragraph (b)(2) of the Crawler, Locomotive, and Truck Crane Standard (29 CFR 1926.550). The Agency will summarize the comments submitted in response to this notice, and will include this summary in its request to OMB to extend the approval of this information-collection requirement.

Type of Review: Extension of currently approved information-collection requirements.

Title: Crawler, Locomotive, and Truck Crane Standard.

OMB Number: 1218-0232.

Affected Public: Business or other for-profit; not-for-profit institutions; Federal government; State, local or tribal governments.

Number of Respondents: 16,581.

Frequency of Response: Monthly.

Total Responses: 198,972.

Average Time per Response: 30 minutes (.50 hour).

Estimated Total Burden Hours: 99,486.

Estimated Cost (Operation and Maintenance): $0.

V. Authority and Signature

John L. Henshaw, Assistant Secretary of Labor for Occupational Safety and Health, directed the preparation of this notice. The authority for this notice is the Paperwork Reduction Act of 1995 (44 U.S.C. 3506) and Secretary of Labor's Order No. 5-2002 (67 FR 65008).

Signed at Washington, DC on July 13, 2004.
John L. Henshaw,
Assistant Secretary of Labor.

[FR Doc. 04-16339 Filed 7-16-04; 8:45 am]

BILLING CODE 4510-26-M